DEPARTMENT OF TRANSPORTATION

Federal Aviation Administration

Fourth Meeting: Special Committee 209, Air Traffic Control Radar Beacon Systems (ATCRBS)/Mode S Transponder

AGENCY: Federal Aviation Administration (FAA), DOT.

ACTION: Notice of RTCA Special Committee 209, ATCRBS/Mode S Transponder.

SUMMARY: The FAA is issuing this notice to advise the public of a meeting of RTCA Special Committee 209, Air Traffic Control Radar Beacon Systems (ATCRBS)/Mode S Transponder.

DATES: The meeting will be held October 18-19, 2006, from 9 a.m.-5 p.m.

ADDRESSES: The meeting will be held at Honeywell, 23500 West 105th St., Olathe, KS 66061.

FOR FURTHER INFORMATION CONTACT: RTCA Secretariat, 1828 L Street, NW., Suite 805, Washington, DC 20036; telephone (202) 833-9434; Web site http://www.rtca.org, Honeywell contact: Don Walker; telephone (913) 712-2193, e-mail don.walker@honeywell.com; Honeywell Secretary contact: Gary Furr; telephone (609) 485-4254, e-mail gary.ctr.furr@faa.gov.

SUPPLEMENTARY INFORMATION: Pursuant to section 10(a)(2) of the Federal Advisory Committee Act (Pub. L. 92-463, U.S.C., Appendix 2), notice is hereby given for a Special Committee 209 meeting. The agenda will include:

October 18-19:

• Opening Plenary Session (Welcome, Introductions, and Administrative Remarks, Review/Approval of Agenda, Review/Approval of Minutes from Meeting #3).

• Report from Team reviewing the ADLP MOPS, DO-218B.

• Draft v1.2 of the Proposed Appendix B.

• Report from Team reworking DO-181C.

• Report from Team reviewing the update of Test Procedures.

• Status of the ED-73B/DO-181C Requirements Comparison data base.

• Status of the coordination with WG-49

• Compliance Verification for ELS, EHS & ADS-B Applications.

• Guidance Material for Mode-S Specific Protocol Applications.

• Review of Proposals on Work to Restructure and Produce DO-144A.

• Review of Status of Action Items.

• Updated Review of P1-P3-P4 Accept/Reject (AI-3-1).

• Updated Issues with BDS 4.0 Data Loading (AI-3-1).

• Closing Plenary Session (Other Business, Discussion of Agenda for Next Meeting, Date, Place and Time of Future Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 22, 2006.
Francisco Estrada C.,
RTCA Advisory Committee.

[FR Doc. 06-8461 Filed 10-2-06; 8:45 am]

BILLING CODE 4910-13-M